DEPARTMENT OF JUSTICE

[OMB Number 1122-NEW]

Agency Information Collection Activities; Proposed eCollection eComments Requested; New Collection

AGENCY: Office on Violence Against Women, Department of Justice.

ACTION: 60-Day notice.

SUMMARY: The Department of Justice, Office on Violence Against Women (OVW) will be submitting the following information collection request to the Office of Management and Budget (OMB) for review and approval in accordance with the Paperwork Reduction Act of 1995.

DATES: Comments are encouraged and will be accepted for 60 days until December 1, 2020.

FOR FURTHER INFORMATION CONTACT: Written comments and/or suggestion regarding the items contained in this notice, especially the estimated public burden and associated response time, should be directed to Cathy Poston, Office on Violence Against Women, at 202-514-5430 or Catherine.poston@usdoj.gov.

SUPPLEMENTARY INFORMATION: Written comments and suggestions from the public and affected agencies concerning the proposed collection of information are encouraged. Your comments should address one or more of the following four points:

(1) Evaluate whether the proposed collection of information is necessary for the proper performance of the functions of the agency, including whether the information will have practical utility;

(2) evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New collection

(2) Title of the Form/Collection: OVW Consolidated Progress Report Template

(3) Agency form number, if any, and the applicable component of the Department of Justice sponsoring the collection: Form Number: 1122-NEW. U.S. Department of Justice, Office on Violence Against Women (OVW)

(4) Affected public who will be asked or required to respond, as well as a brief abstract: Primary: The affected public includes grantees and subgrantees of formula and discretionary grant programs authorized under the Violence Against Women Act (VAWA) of 1994, and reauthorized and amended by the Violence Against Women Act of 2000, the Violence Against Women Act of 2005, and the Violence Against Women Act of 2013 and administered by OVW. These include states, territories, Tribes or units of local government, institutions of higher education including colleges and universities, tribal organizations, federal, state, tribal, territorial or local courts or court-based programs, state sexual assault coalitions, state domestic violence coalitions; territorial domestic violence or sexual assault coalitions, tribal coalitions, community-based organizations, and non-profit, nongovernmental organizations.

This submission is to seeking to consolidate previously approved collections (OMB Numbers 1122-0003, 1122-0022, 1122-0005, 1122-0006, 1122-0007, 1122-0008, 122-0009, 1122-0010, 1122-0011, 1122-0012, 1122-0013, 1122-0016, 1122-0017, 1122-0018, 1122-0021, 1122-0023, 1122-0024, 1122-0026, 1122-0027, and 1122-0028) under one, new OMB number, so as to align with a new data collection platform that removes OVW's need to have separate and distinct forms for collecting performance data. Per GPRA and subsequent legislation, OMB's Uniform Administrative Requirements, Cost Principles, and Audit Requirements for Federal Awards, and OVW's monitoring policies and procedures, OVW requires semi-annual performance reports from its grantees under discretionary programs and initiatives, as well as annual reports from grantees and subgrantees under two formula grant programs. Performance reports collect Congressionally mandated data as well as numeric and narrative information on the grantee/subgrantee's progress toward project goals. There is a great deal of consistency across the current forms in terms of data collected; however; because until now the technology on which OVW's grants management system operated required each data collection to exist as a distinct form, an OMB number was obtained and routinely updated for each form. That system, Office of Justice Programs' Grants Management System, has been retired and a new grants management system, JustGrants, is being implemented in October 2020. The new system allows OVW to compile a library of performance questions that can be selected and sequenced to match each program's current OMB-approved form. Thus, the requested OMB number is to cover OVW's performance reporting question library, though grantees will only be required to answer a subset of the available questions.

(5) An estimate of the total number of respondents and the amount of time estimated for an average respondent to respond/reply: At any given time, there are approximately 3,000 grantees and approximately 3,000 subgrantees subject to the above-mentioned reporting requirements, and there is some degree of overlap among grantees and subgrantees, meaning some organizations have multiple, active OVW awards on which they are required to report. It is estimated that it will take the approximately 6000 grantees and subgrantees 60 minutes to complete an annual or semiannual progress reporting form.

(6) An estimate of the total public burden (in hours) associated with the collection: The total annual hour burden for OVW grantees and subgrantees to complete the annual or semiannual progress reporting form is 6000.

If additional information is required contact: Melody Braswell, Deputy Clearance Officer, United States Department of Justice, Justice Management Division, Policy and Planning Staff, Two Constitution Square, 145 N Street NE, 3E, 405B, Washington, DC 20530.

Dated: September 29, 2020.
Melody Braswell,
Department Clearance Officer, PRA, U.S. Department of Justice.

[FR Doc. 2020-21820 Filed 10-1-20; 8:45 am]

BILLING CODE 4410-FX-P